INTERNATIONAL TRADE COMMISSION

[Inv. No. 337-TA-600]

Certain Rechargeable Lithium-Ion Batteries, Components Thereof, and Products Containing Same; Notice of Investigation

AGENCY: U.S. International Trade Commission.

ACTION: Institution of investigation pursuant to 19 U.S.C. 1337.

SUMMARY: Notice is hereby given that a complaint was filed with the U.S. International Trade Commission on March 7, 2007, under section 337 of the Tariff Act of 1930, as amended, 19 U.S.C. 1337, on behalf of 3M Company and 3M Innovative Properties Company of St. Paul, Minnesota. A letter supplementing the complaint was filed on March 27, 2007. On April 11, 2007, the complainants filed an amended complaint. A letter supplementing the amended complaint was filed on April 17, 2007. The amended complaint alleges violations of section 337 in the importation into the United States, the sale for importation, and the sale within the United States after importation of certain rechargeable lithium-ion batteries, components thereof, and products containing same by reason of infringement of U.S. Patent Nos. 6,964,828 and 7,078,128. The amended complaint further alleges that an industry in the United States exists as required by subsection (a)(2) of section 337.

The complainants request that the Commission institute an investigation and, after the investigation, issue a permanent exclusion order and permanent cease and desist orders.

ADDRESSES: The amended complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://www.usitc.gov/secretary/edis.htm.

FOR FURTHER INFORMATION CONTACT: Rett Snotherly, Esq., Office of Unfair Import Investigations, U.S. International Trade Commission, telephone (202) 205-2599.

Authority: The authority for institution of this investigation is contained in section 337 of the Tariff Act of 1930, as amended, and in section 210.10 of the Commission's Rules of Practice and Procedure, 19 CFR 210.10 (2006).

Scope Of Investigation: Having considered the amended complaint, the U.S. International Trade Commission, on April 20, 2007, ORDERED THAT—

(1) Pursuant to subsection (b) of section 337 of the Tariff Act of 1930, as amended, an investigation be instituted to determine whether there is a violation of subsection (a)(1)(B) of section 337 in the importation into the United States, the sale for importation, or the sale within the United States after importation of certain rechargeable lithium-ion batteries, components thereof, or products containing same by reason of infringement of one or more of claims 1, 2, 13, and 15-19 of U.S. Patent No. 6,964,828 and claims 10, 15, 16, and 22 of U.S. Patent No. 7,078,128, and whether an industry in the United States exists as required by subsection (a)(2) of section 337;

(2) For the purpose of the investigation so instituted, the following are hereby named as parties upon which this notice of investigation shall be served:

(a) The complainants are—

3M Company, 3M Center, St. Paul, Minnesota 55144.

3M Innovative Properties Company, 3M Center, St. Paul, Minnesota 55144.

(b) The respondents are the following entities alleged to be in violation of section 337, and are the parties upon which the amended complaint is to be served:

Sony Corporation, 7-35 Kitashinagawa, 6-Chome Shinagawa-KU, Tokyo 141 Japan.

Sony Electronics, Inc., 16450 W. Bernardo Dr., San Diego, CA 92127.

Lenovo Group Limited (Hong Kong), 23rd Floor, Lincoln House, Taikoo Place, 979 King's Road, Quarry Bay, Hong Kong.

Lenovo (United States) Inc., 5241 Paramount Pkwy, Morrisville, NC 27560.

CDW Corporation, 200 N. Milwaukee Ave., Vernon Hills, IL 60061.

Batteries Com, LLC, 6040 W. 79th Street, Indianapolis, IN 46278-1727.

Hitachi Koki USA, Ltd., 3950 Steve Reynolds Blvd., Norcross, GA 30093.

Matsushita Industrial Electric Co., Ltd. 1006, Kadoma, Kadoma, OSK 571-0050 Japan.

Panasonic Corporation of North America, 1 Panasonic Way, Panazip 1F-6, Secaucus, NJ 07094.

Total Micro Technologies, Inc., 17791 Mitchell N, Irvine, CA 92614.

Sanyo Electric Co., Ltd, 5-5 Keihan-Hondori, 2-chome, Moriguchi, Osaka 570-8677, Japan.

(c) The Commission investigative attorney, party to this investigation, is Rett Snotherly, Esq., Office of Unfair Import Investigations, U.S. International Trade Commission, 500 E Street, SW., Suite 401, Washington, DC 20436; and

(3) For the investigation so instituted, the Honorable Charles E. Bullock is designated as the presiding administrative law judge.

Responses to the amended complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of a limited exclusion order or cease and desist order or both directed against the respondent.

By order of the Commission.
Issued: April 20, 2007.
Marilyn R. Abbott,
Secretary to the Commission.

[FR Doc. E7-8053 Filed 4-26-07; 8:45 am]

BILLING CODE 7020-02-P